FEDERAL COMMUNICATIONS COMMISSION

[AU Docket No. 14-252, GN Docket No. 12-268, WT Docket No. 12-269; DA 15-1428]

Application Procedures for Broadcast Incentive Auction Scheduled To Begin on March 29, 2016; Updates and Other Supplemental Information

AGENCY: Federal Communications Commission.

ACTION: Notice.

SUMMARY: This document updates and supplements information on procedures for the Broadcast Incentive Auction.

FOR FURTHER INFORMATION CONTACT: Wireless Telecommunications Bureau, Auctions and Spectrum Access Division: For general auction questions contact Linda Sanderson, at (717) 338-2868; for reverse auction legal questions contact Erin Griffith or Kathryn Hinton at (202) 418-0660; for forward auction legal questions contact Leslie Barnes or Valerie Barrish at (202) 418-0660.

SUPPLEMENTARY INFORMATION: This is a summary of the Broadcast Incentive Auction Supplemental Information Public Notice (PN), AU Docket No. 14-252, GN Docket No. 12-268, WT Docket No. 12-269, DA 15-1428, released on December 21, 2015. The complete text of the Broadcast Incentive Auction Supplemental Information PN, including the attachments, is available for public inspection and copying from 8:00 a.m. to 4:30 p.m. ET Monday through Thursday or from 8:00 a.m. to 11:30 a.m. ET on Fridays in the FCC Reference Information Center, 445 12th Street SW., Room CY-A257, Washington, DC 20554. The complete text is also available on the Commission's Web site at http://wireless.fcc.gov, or by using the search function on the ECFS Web page at http://www.fcc.gov/cgb/ecfs/. Alternative formats are available to persons with disabilities by sending an email to FCC504@fcc.gov or by calling the Consumer & Governmental Affairs Bureau at (202) 418-0530 (voice), (202) 418-0432 (TTY).

I. Introduction

1. The Wireless Telecommunications Bureau (Bureau) updates and supplements information provided in the Auction 1000 Application Procedures Public Notice (PN), 80 FR 66429, October 29, 2015. Specifically, the Bureau announces that the pre-auction process tutorial for the forward auction will be available by January 19, 2016; provides additional information concerning access to the Commission's bidding system (Auction System) for the reverse and forward auctions; provides additional details about the grouping of Partial Economic Areas (PEAs) in the assignment phase of the forward auction; and makes ministerial changes to two of the appendices released with the Auction 1000 Application Procedures PN. All other dates and deadlines, as well as other application procedures, instructions, and information, remain as previously announced.

II. Tutorial on Forward Auction Pre-Auction Process To Be Available by January 19, 2016

2. The Bureau will make available an interactive, online tutorial focusing on the pre-auction application process for the forward auction (Auction 1002) no later than January 19, 2016. The pre-auction application process tutorial will be accessible from the Commission's Auction 1002 Web page at http://www.fcc.gov/auctions/1002 through a link under the “Education” tab. Once posted, the tutorial will remain available and accessible on the Auction 1002 Web page anytime for reference.

III. Access to the Auction System for Bidding

3. As previously described in the Auction 1000 Application Procedures PN, an applicant must have an FCC-provided SecurID® token to access the Auction System in order to place bids in the reverse or forward clock rounds, as well as to participate in any mock auction. SecurID® tokens will be distributed to applicants for the reverse auction prior to the deadline for initial commitments, and to forward auction applicants prior to the announcement of qualified bidders, to enable applicants with complete applications to practice with the Auction System. Each authorized bidder identified on an applicant's FCC Form 177 or 175 will be issued a unique SecurID® token tailored to that bidder. For security purposes, the SecurID® tokens, the telephonic bidding telephone number, and the relevant Auction System Bidder's Guide are mailed only to the applicant's contact person at the contact address listed on its auction application.

A. Reverse Auction Applicants

4. Each reverse auction (Auction 1001) applicant permitted to make an initial commitment must do so in the Auction System using a SecurID® token. The Bureau will therefore provide SecurID® tokens prior to the initial commitment deadline.

5. As explained in the Auction 1000 Application Procedures PN, an applicant will receive confidential notices concerning the status of its application and of each station selected on its application after the initial filing deadline (First Confidential Status Letter) and after the resubmission deadline (Second Confidential Status Letter), respectively. Each applicant whose application and at least one selected station have been deemed “complete” in the Second Confidential Status Letter will be permitted to make an initial commitment to a preferred relinquishment option for each complete station using a SecurID® token. Additional instructions for making an initial commitment will be provided to each applicant with one or more complete stations as an enclosure to its Second Confidential Status Letter.

6. Once the initial clearing target has been determined based on initial commitments, an applicant that was permitted to make an initial commitment will receive a third confidential status letter (Final Confidential Status Letter) notifying the applicant for each complete station whether or not the station is qualified to bid in the clock rounds of the reverse auction. An applicant with one or more qualified stations will be eligible to participate in a mock auction prior to bidding in the clock rounds of the reverse auction. Additional instructions for participating in the mock auction and for placing bids in the clock rounds of the reverse auction, using the applicant's previously received SecurID® tokens, will be provided to each applicant that has at least one station qualified to bid. Any applicant with a station that is not qualified to bid in the reverse auction clock rounds will not be able to place clock round bids for that station in the Auction System.

B. Forward Auction Applicants

7. As described in the Auction 1000 Application Procedures PN, an Auction 1002 applicant whose application has been deemed to be “complete” will be eligible to practice with the Auction System prior to the mock auction that will be offered to qualified bidders. Any applicant that is eligible to practice with the Auction System must have a SecurID® token to log in. SecurID® tokens along with instructions for practicing with the Auction System will therefore be distributed to each applicant whose application is listed as complete in a public notice to be released after the deadline for resubmitting corrected applications and prior to the announcement of qualified bidders in the Auction 1002 Qualified Bidders PN.

8. Each applicant listed as a qualified bidder in the Auction 1002 Qualified Bidders PN will be provided with additional instructions for participating in the mock auction and for placing bids in the forward auction using the applicant's previously received SecurID® tokens. Any applicant whose application was listed as complete after the deadline for resubmitting corrected applications that does not become qualified to bid will not be permitted to access the Auction System for bidding.

IV. Grouping of PEAs for Forward Auction Assignment Phase Bidding

9. In the Auction 1000 Bidding Procedures PN, 80 FR 61918, October 14, 2015, the Commission adopted procedures for assignment phase bidding which depend in part upon the Regional Economic Area Grouping (REAG) in which a PEA is included. The public notice indicated that, for the grouping and sequencing of PEAs in the assignment rounds, the PEAs in the six least populous REAGs will be included with the PEAs in one of the six REAGs that cover the contiguous United States. Attachment 1 to the Broadcast Incentive Auction Supplemental Information PN lists each PEA and the REAG with which it will be associated for assignment phase bidding purposes.

V. Corrections and Notifications to Technical Appendices

10. The Bureau makes ministerial changes to two of the appendices released with the Auction 1000 Application Procedures PN. First, the Bureau corrects typographical errors in the text of APPENDIX D to the Auction 1000 Application Procedures PN. Specifically, in Section 5.5 of APPENDIX D, (a) the variable u and the variable s should be switched in much of the text in the section, including the examples, and (b) the variable t in Example 3 should be replaced by the variable s. The corrected text to Section 5.5 of APPENDIX D is shown in Attachment 2 of the Broadcast Incentive Auction Supplemental Information PN.

11. The Bureau also notes that in Section 3.2 of APPENDIX E to the Auction 1000 Application Procedures PN, includes those Mexican stations that cause pairwise interference less than 0.5 percent to U.S. stations when placed on their future channel as specified in the Mexican Coordination.

Federal Communications Commission.
Craig Bomberger,
Deputy Division Chief, Auctions and Spectrum Access Division, WTB.

[FR Doc. 2015-32864 Filed 12-29-15; 8:45 am]

BILLING CODE 6712-01-P